OFFICE OF PERSONNEL MANAGEMENT

Excepted Service

AGENCY: Office of Personnel Management.

ACTION: Notice.

SUMMARY: This gives notice of OPM decisions, granting authority to make appointments under Schedule C in the excepted service as required by 5 CFR 6.1 and 213.103.

FOR FURTHER INFORMATION CONTACT: Pam Shivery, Director, Washington Service Center, Employment Service, (202) 606-1015.

SUPPLEMENTARY INFORMATION: Appearing in the listing below are the individual authorities established under Schedule C between August 01, 2002 and August 31, 2002. Future notices will be published on the fourth Tuesday of each month, or as soon as possible thereafter. A consolidated listing of all authorities as of June 30 is published each year.

Schedule C

Commission on Civil Rights

Special Assistant to the Staff Director, Office of the Staff Director. Effective August 2, 2002.

Special Assistant to the Commissioner. Effective

August 2, 2002.

Special Assistant to the Staff Director, United States Commission on Civil Rights. Effective August 8, 2002.

Commodity Futures Trading Commission

Administrative Assistant to the Chairman. Effective August 19, 2002.

Consumer Product Safety Commission

Staff Assistant (Legal) to the Chairman. Effective August 15, 2002.

Special Assistant to the Chairman. Effective August 16, 2002.

Department of Agriculture

Deputy Press Secretary to the Deputy Chief of Staff. Effective August 12, 2002.

Staff Assistant to the Deputy Chief of Staff. Effective August 14, 2002.

Confidential Assistant to the Chief of Staff. Effective August 27, 2002.

Department of the Army (DOD)

Water Resources Project Specialist to the Deputy Assistant Secretary of Army (Legislation). Effective August 15, 2002.

Department of Commerce

Confidential Assistant to the Chief of Staff. Effective August 5, 2002.

Director of Scheduling to the Chief of Staff. Effective August 15, 2002.

Senior Analyst to the Director, Bureau of Census. Effective August 22, 2002.

Special Assistant to the Director, Advocacy Center. Effective August 22, 2002.

Special Assistant to the Assistant to the Secretary and Director, Office of Policy and Strategic Planning. Effective August 27, 2002.

Department of Defense

Defense Fellow to the Special Assistant to the Secretary for White House Liaison. Effective August 7, 2002.

Deputy White House Liaison to the Special Assistant to the Secretary of Defense for White House Liaison. Effective August 7, 2002.

Special Assistant to the Director, Program Analysis and Evaluation. Effective August 29, 2002.

Department of Education

Special Assistant to the Deputy Chief of Staff of Operations. Effective August 5, 2002.

Confidential Assistant to the Assistant Secretary for Civil Rights. Effective August 6, 2002.

Confidential Assistant to the Assistant Secretary for Civil Rights. Effective August 6, 2002.

Special Assistant to the Assistant Secretary for Civil Rights. Effective August 8, 2002.

Confidential Assistant to the Deputy Director, English Language Acquisition. Effective August 14, 2002.

Special Assistant to the Secretary, Department of Education. Effective August 15, 2002.

Special Assistant to the Deputy Assistant Secretary, Office of Legislation and Congressional Affairs. Effective August 15, 2002.

Confidential Assistant to the Assistant Secretary for Educational Research and Improvement. Effective August 16, 2002.

Confidential Assistant to the Deputy Assistant Secretary, Office of Legislative and Congressional Affairs. Effective August 22, 2002.

Special Assistant to the Director, White House Initiative on Hispanic Education. Effective August 22, 2002.

Special Assistant to the Director, Office of Educational Technology. Effective August 22, 2002.

Special Assistant to the Director, Office of Educational Technology. Effective August 28, 2002.

Confidential Assistant to the Deputy Chief of Staff for Operations. Effective August 29, 2002.

Department of Energy

Senior Policy Advisor to the Assistant Secretary for Environment, Safety and Health. Effective August 13, 2002.

Senior Policy Advisor to the Secretary of Energy. Effective August 20, 2002.

Department of Health and Human Services

Special Assistant to the Director for Global Health Affairs. Effective August 16, 2002.

Confidential Assistant to the Executive Secretary. Effective August 28, 2002.

Department of Housing and Urban Development

Intergovernmental Relations Assistant to the Assistant Secretary for Congressional and Intergovernmental Relations. Effective August 2, 2002.

Advance Coordinator to the Director, Executive Scheduling. Effective August 7, 2002.

Staff Assistant to the Assistant to the Secretary and White House Liaison. Effective August 13, 2002.

Staff Assistant to the Assistant Secretary for Community Planning and Development. Effective August 14, 2002. Special Projects Coordinator to the Regional Administrator (Southeast/Caribbean). Effective August 14, 2002.

Staff Assistant to the Deputy Assistant Secretary for International Affairs. Effective August 15, 2002.

Staff Assistant to the Assistant to the Secretary and White House Liaison. Effective August 21, 2002.

Staff Assistant to the Assistant Secretary for Congressional and Intergovernmental Relations. Effective August 22, 2002.

Director, Center for Faith Based and Community Initiatives to the Assistant Secretary for Administration. Effective August 26, 2002.

Department of the Interior

Special Assistant to the Chief of Staff. Effective August 13, 2002.

Special Assistant to the Assistant Secretary, Land and Minerals Management. Effective August 29, 2002.

Special Assistant and Counselor to the Assistant Secretary, Policy, Management and Budget. Effective August 30, 2002.

Department of Justice

Public Affairs Specialist to the Director, Office of Public Affairs. Effective August 7, 2002.

Secretary (Office Automation) to the United States Attorney, Western District of Louisiana. Effective August 14, 2002.

Public Affairs Specialist to the United States Attorney, Western District of New York. Effective August 22, 2002.

Department of Labor

Senior Legislative Officer to the Assistant Secretary for Congressional and Intergovernmental Affairs. Effective August 5, 2002.

Special Assistant to the Secretary of Labor. Effective August 7, 2002.

Staff Assistant to the Deputy Assistant Secretary for Office of Labor Management Standards. Effective August 14, 2002.

Chief of Staff to the Assistant Secretary for Mine Safety and Health. Effective August 21, 2002.

Staff Assistant to the Secretary of Labor. Effective August 22, 2002.

Staff Assistant to the Executive Secretary. Effective August 22, 2002.

Special Assistant to the Director, Office of Public Liaison. Effective August 26, 2002.

Associate Deputy Under Secretary for Public Liaison to the Deputy Under Secretary for International Affairs. Effective August 27, 2002.

Staff Assistant to the Director, Office of the 21st Century Workforce. Effective August 27, 2002.

Special Assistant to the Chief Financial Officer. Effective August 28, 2002.

Special Assistant to the Director of Scheduling and Advance. Effective August 28, 2002.

Research Assistant to the Assistant Secretary for Congressional and Intergovernmental Affairs. Effective August 28, 2002.

Special Assistant to the Deputy Assistant Secretary, Office of Federal Contract Compliance Programs. Effective August 28, 2002.

Special Assistant to the Assistant Secretary for Administration and Management. Effective August 29, 2002.

Special Assistant to the Assistant Secretary, Pension and Welfare Benefits Administration. Effective August 29, 2002.

Special Assistant to the Secretary of Labor. Effective August 30, 2002.

Department of State

Special Assistant to the Assistant Secretary for Resource Management. Effective August 6, 2002.

Staff Assistant to the Deputy Secretary of State. Effective August 15, 2002.

Senior Advisor to the Commissioner, International Joint Commission. Effective August 28, 2002.

Department of Transportation

Associate Director for Governmental Affairs to the Assistant Secretary for Governmental Affairs. Effective August 1, 2002.

Special Assistant to the Administrator, Maritime Administration. Effective August 6, 2002.

Associate Director to the Assistant Secretary for Governmental Affairs. Effective August 28, 2002.

Federal Housing Finance Board

Counsel to the Chairman. Effective August 5, 2002.

Special Assistant to the Board Director. Effective August 5, 2002.

Counsel to the Chairman. Effective August 12, 2002.

Special Assistant to the Board Director. Effective August 29, 2002.

General Services Administration

Congressional Relations Officer to the Associate Administrator for Congressional and Intergovernmental Affairs. Effective August 5, 2002.

Congressional Relations Officer to the Associate Administrator for Congressional and Intergovernmental Affairs. Effective August 26, 2002.

Special Assistant to the Regional Administrator, New England Region. Effective August 26, 2002.

National Endowment for the Humanities

Special Assistant to the Chairman. Effective August 14, 2002.

National Mediation Board

Confidential Assistant to the Board Member. Effective August 28, 2002.

Office of Personnel Management

Policy Analyst to the Director, Office of Personnel Management. Effective August 14, 2002.

Small Business Administration

Deputy Associate Administrator to the Associate Administrator for Communications and Public Liaison. Effective August 12, 2002.

Authority: 5 U.S.C. 3301 and 3302; E.O. 10577, 3 CFR 1954-1958 Comp., p. 218.

Kay Coles James,
Director.

[FR Doc. 02-24086 Filed 9-23-02; 8:45 am]

BILLING CODE 6325-38-P